NUCLEAR REGULATORY COMMISSION

[Docket No. 50-247]

Consolidated Edison Company of New York, Inc.; Facility Operating License No. DPR-26 Receipt of Additional Information Relating to Petition for Director's Decision Under 10 CFR 2.206

Notice is hereby given that additional information has been submitted in support of a Petition dated March 14, 2000, filed by Mr. David A. Lochbaum, on behalf of the Union of Concerned Scientists, the Nuclear Information & Resource Service, the PACE Law School Energy Project, and Public Citizen's Critical Mass Energy Project (petitioners). The petitioners requested that the U.S. Nuclear Regulatory Commission (NRC) take action with regard to Indian Point Nuclear Generating Unit No. 2 (IP2), owned and operated by the Consolidated Edison Company of New York, Inc. (the licensee). The petitioner requested that the NRC issue an order to the licensee preventing the restart of IP2, or modify the license for IP2 to limit it to zero power, until (1) all four steam generators are replaced, (2) the steam generator tube integrity concerns identified in Dr. Joram Hopenfeld's differing professional opinion (DPO) and in Generic Safety Issue (GSI-163) are resolved, and (3) potassium iodide tablets are distributed to residents and businesses within the 10-mile emergency planning zone (EPZ) or stockpiled in the vicinity of IP2. The original Petition was published in the Federal Register on April 11, 2000 (65 FR 19398). The supplemental information consisted of a letter from Mr. Lochbaum dated April 14, 2000, a letter from Mr. Riccio dated April 12, 2000, and information provided at an April 7, 2000, public meeting.

As stated in the original Federal Register notice, the request that the NRC prevent the licensee from restarting IP2 until all four steam generators are replaced is being treated pursuant to 10 CFR 2.206 of the Commission's regulations. The original request that the NRC prevent the licensee from restarting IP2 until the DPO filed by Dr. Hopenfeld is resolved and until potassium iodide tablets are distributed to people and businesses within the 10-mile EPZ or stockpiled in the vicinity of IP2 was not being treated at that time pursuant to 10 CFR 2.206 of the Commission's regulations. However, the petitioners provided additional information at the April 7, 2000, public meeting and in Mr. Riccio's April 12, 2000, letter concerning the population density in the vicinity of the IP2 site and difficulties in emergency planning at the site which, in their view, make adequate evacuation and/or sheltering of the local population impossible. Based on this additional information, the NRC staff has determined that the request that the NRC issue an order to prevent Con Ed from restarting IP2, or modify the license for IP2 to limit it to zero power, until potassium iodide tablets are distributed to people and businesses within the 10-mile EPZ or stockpiled in the vicinity of IP2 meets the criteria of 10 CFR 2.206. As provided by section 2.206, action will be taken on this request within a reasonable time.

In their April 14, 2000, letter, the petitioners contend that the information in NUREG/CR-5752, “Assessment of Current Understanding of Mechanisms of Initiation, Arrest, and Reinitiation of Stress Corrosion Cracks in PWR Steam Generator Tubing,” is relevant to their request to replace the IP2 steam generators and to resolve Dr. Hopenfeld's DPO prior to IP2 restart. However, the information in NUREG/CR-5752 is a schematic or generalized presentation of the process for crack initiation and growth and was not intended to be representative of actual plant conditions. Thus, NUREG/CR-5752 is not directly applicable to IP2 and does not provide information specific to IP2 restart. Therefore, the request that the NRC prevent the licensee from restarting IP2 until the DPO filed by Dr. Hopenfeld is resolved will not be treated pursuant to 10 CFR 2.206 of the Commission's regulations.

Copies of the Petition and additional information are available for inspection at the Commission's Public Document Room, the Gelman Building, 2120 L Street NW., Washington, DC, and accessible electronically through the ADAMS Public Electronic Reading Room link at the NRC Web site (http:/ ­/www/nrc.gov).

Dated at Rockville, Maryland, this 26th day of June 2000.
For the Nuclear Regulatory Commission.
Roy P. Zimmerman,
Acting Director, Office of Nuclear Reactor Regulation.

[FR Doc. 00-17883 Filed 7-13-00; 8:45 am]

BILLING CODE 7590-01-P